DEPARTMENT OF ENERGY

Federal Energy Regulatory Commission

Combined Notice of Filings #1

Take notice that the Commission received the following electric corporate filings:

Docket Numbers: EC22-17-000.

Applicants: Beulah Solar, LLC, PGR 2021 Lessee 2, LLC.

Description: Joint Application for Authorization Under Section 203 of the Federal Power Act of Beulah Solar, LLC, et al.

Filed Date: 11/19/21.

Accession Number: 20211119-5227.

Comment Date: 5 p.m. ET 12/10/21.

Take notice that the Commission received the following electric rate filings:

Docket Numbers: ER15-1434-005.

Applicants: ISO New England Inc.

Description: Compliance filing: ISO New England Inc. submits tariff filing per 35: Versant Power; Docket No. ER15-1434—Joint Offer of Settlement to be effective N/A.

Filed Date: 11/19/21.

Accession Number: 20211119-5116.

Comment Date: 5 p.m. ET 12/10/21.

Docket Numbers: ER17-1821-004.

Applicants: Panda Stonewall LLC.

Description: Refund Report: Potomac Energy Center, LLC submits tariff filing per 35.19a(b): Refund Report to be effective N/A.

Filed Date: 11/19/21.

Accession Number: 20211119-5179.

Comment Date: 5 p.m. ET 12/10/21.

Docket Numbers: ER20-1977-001.

Applicants: Versant Power.

Description: Compliance filing: Joint Offer of Settlement Re: Maine Public District Charges (ER20-1977-) to be effective 6/1/2021.

Filed Date: 11/19/21.

Accession Number: 20211119-5024.

Comment Date: 5 p.m. ET 12/10/21.

Docket Numbers: ER21-2460-001.

Applicants: New York Independent System Operator, Inc.

Description: Compliance filing: Additional Information for Order No. 2222 Compliance to be effective N/A.

Filed Date: 11/19/21.

Accession Number: 20211119-5226.

Comment Date: 5 p.m. ET 12/10/21.

Docket Numbers: ER22-392-001.

Applicants: El Paso Electric Company.

Description: Compliance filing: EPE Order No. 864 Compliance filing to be effective 1/1/2022.

Filed Date: 11/19/21.

Accession Number: 20211119-5187.

Comment Date: 5 p.m. ET 12/10/21.

Docket Numbers: ER22-420-001.

Applicants: Wisconsin Public Service Corporation.

Description: Tariff Amendment: Amendment to AS Tariff Filing for Reactive Supply Service to be effective 11/18/2021.

Filed Date: 11/19/21.

Accession Number: 20211119-5056.

Comment Date: 5 p.m. ET 12/10/21.

Docket Numbers: ER22-432-000.

Applicants: Public Service Company of Colorado.

Description: § 205(d) Rate Filing: 2021-11-18 Cedar Creek II-LGIA Amnd-277 to be effective 11/19/2021.

Filed Date: 11/18/21.

Accession Number: 20211118-5193.

Comment Date: 5 p.m. ET 12/9/21.

Docket Numbers: ER22-433-000.

Applicants: Indra Power Business PA, LLC.

Description: Baseline eTariff Filing: Tariffs and Agreements to be effective 1/18/2022.

Filed Date: 11/18/21.

Accession Number: 20211118-5196.

Comment Date: 5 p.m. ET 12/9/21.

Docket Numbers: ER22-434-000.

Applicants: Altop Energy Trading LLC.

Description: Baseline eTariff Filing: Petition of Altop Energy Trading LLC MBR Tariff Application to be effective 1/1/2022.

Filed Date: 11/19/21.

Accession Number: 20211119-5003.

Comment Date: 5 p.m. ET 12/10/21.

Docket Numbers: ER22-435-000.

Applicants: PJM Interconnection, L.L.C.

Description: § 205(d) Rate Filing: Original ISA, Service Agreement No. 6225; Queue Nos. AA1-111/AB1-092/AD2-055 to be effective 10/20/2021.

Filed Date: 11/19/21.

Accession Number: 20211119-5040.

Comment Date: 5 p.m. ET 12/10/21.

Docket Numbers: ER22-436-000.

Applicants: AEP Texas Inc.

Description: § 205(d) Rate Filing: AEPTX-Big Country EC-Golden Spread EC 2nd A&R IA to be effective 10/27/2021.

Filed Date: 11/19/21.

Accession Number: 20211119-5062.

Comment Date: 5 p.m. ET 12/10/21.

Docket Numbers: ER22-437-000.

Applicants: AEP Texas Inc.

Description: § 205(d) Rate Filing: AEPTX-Rayos Del Sol 5th A&R Generation Interconnection Agreement to be effective 10/27/2021.

Filed Date: 11/19/21.

Accession Number: 20211119-5068.

Comment Date: 5 p.m. ET 12/10/21.

Docket Numbers: ER22-438-000.

Applicants: AEP Texas Inc.

Description: § 205(d) Rate Filing: AEPTX-Lunis Creek Solar Project Generation Interconnection Agreement to be effective 10/29/2021.

Filed Date: 11/19/21.

Accession Number: 20211119-5070.

Comment Date: 5 p.m. ET 12/10/21.

Docket Numbers: ER22-439-000.

Applicants: Southwest Power Pool, Inc.

Description: § 205(d) Rate Filing: 3872 WAPA-RMR and NPPD Interconnection Agreement to be effective 12/1/2021.

Filed Date: 11/19/21.

Accession Number: 20211119-5078.

Comment Date: 5 p.m. ET 12/10/21.

Docket Numbers: ER22-440-000.

Applicants: PJM Interconnection, L.L.C., Pennsylvania Electric Company, Jersey Central Power & Light Company, Metropolitan Edison Company.

Description: § 205(d) Rate Filing: PJM Interconnection, L.L.C. submits tariff filing per 35.13(a)(2)(iii: Penelec, JCPL, and Met-Ed submit Revised WASPs, SA Nos. 4221, 4222, and 4223 to be effective 1/19/2022.

Filed Date: 11/19/21.

Accession Number: 20211119-5098.

Comment Date: 5 p.m. ET 12/10/21.

Docket Numbers: ER22-441-000.

Applicants: Midcontinent Independent System Operator, Inc., American Transmission Company LLC.

Description: § 205(d) Rate Filing: Midcontinent Independent System Operator, Inc. submits tariff filing per 35.13(a)(2)(iii: 2021-11-19_SA 3749 ATC-Uplands Wind E&P (J1773 J1781) to be effective 11/17/2021.

Filed Date: 11/19/21.

Accession Number: 20211119-5100.

Comment Date: 5 p.m. ET 12/10/21.

Docket Numbers: ER22-442-000.

Applicants: PJM Interconnection, L.L.C.

Description: § 205(d) Rate Filing: Amendment to WMPA, Service Agreement No. 5294; Queue No. AC2-120 to be effective 2/7/2019.

Filed Date: 11/19/21.

Accession Number: 20211119-5101.

Comment Date: 5 p.m. ET 12/10/21.

Docket Numbers: ER22-443-000.

Applicants: Alabama Power Company.

Description: § 205(d) Rate Filing: Dominion Energy SC Interconnection Agreement Amendment Filing to be effective 11/4/2021.

Filed Date: 11/19/21.

Accession Number: 20211119-5128.

Comment Date: 5 p.m. ET 12/10/21.

Docket Numbers: ER22-444-000.

Applicants: Alabama Power Company.

Description: § 205(d) Rate Filing: SCPSA Amended and Restated Interchange Contract Filing to be effective 10/21/2021.

Filed Date: 11/19/21.

Accession Number: 20211119-5129.

Comment Date: 5 p.m. ET 12/10/21.

Docket Numbers: ER22-445-000.

Applicants: Southwest Power Pool, Inc.

Description: § 205(d) Rate Filing: 3871 Southwestern Power Admin & AECC Interconnection Agr to be effective 1/1/2022.

Filed Date: 11/19/21.

Accession Number: 20211119-5195.

Comment Date: 5 p.m. ET 12/10/21.

Docket Numbers: ER22-446-000.

Applicants: Tri-State Generation and Transmission Association, Inc.

Description: § 205(d) Rate Filing: Initial Filing of Rate Schedule No. 337 to be effective 11/20/2021.

Filed Date: 11/19/21.

Accession Number: 20211119-5214.

Comment Date: 5 p.m. ET 12/10/21.

Docket Numbers: ER22-447-000.

Applicants: Duke Energy Indiana, LLC.

Description: § 205(d) Rate Filing: DEI- Ameren Rate Schedule No. 275 Reimbursement Agreement to be effective 11/20/2021.

Filed Date: 11/19/21.

Accession Number: 20211119-5220.

Comment Date: 5 p.m. ET 12/10/21.

Docket Numbers: ER22-448-000.

Applicants: Northern Indiana Public Service Company LLC, Indiana Crossroads Solar Generation LLC, Meadow Lake Solar Park LLC.

Description: Request for Authorization to Undertake Affiliate Sales of Northern Indiana Public Service Company LLC, et al.

Filed Date: 11/19/21.

Accession Number: 20211119-5233.

Comment Date: 5 p.m. ET 12/10/21.

Docket Numbers: ER22-449-000.

Applicants: Northern Indiana Public Service Company LLC, Dunn's Bridge I Solar Generation LLC, Dunns Bridge Solar Center, LLC.

Description: Request for Authorization to Undertake Affiliate Sales of Dunns Bridge Solar Center, LLC, et al.

Filed Date: 11/19/21.

Accession Number: 20211119-5239.

Comment Date: 5 p.m. ET 12/10/21.

Take notice that the Commission received the following public utility holding company filings:

Docket Numbers: PH22-2-000.

Applicants: BlackRock, Inc.

Description: BlackRock, Inc. submits FERC-65A Notice of Change in Fact to Waiver Notification.

Filed Date: 11/19/21.

Accession Number: 20211119-5188.

Comment Date: 5 p.m. ET 12/10/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 19, 2021.
Kimberly D. Bose,
Secretary.

[FR Doc. 2021-25848 Filed 11-24-21; 8:45 am]

BILLING CODE 6717-01-P